FEDERAL COMMUNICATIONS COMMISSION

47 CFR PART 73

[DA 05-3212, MB Docket No. 01-180, RM-10200, RM-11018]

Radio Broadcasting Services; Holdenville and Pauls Valley, OK

AGENCY: Federal Communications Commission.

ACTION: Final rule.

SUMMARY: This document grants a counterproposal to allot Channel 265A at Holdenville, OK, as a second local service. The document also dismisses a mutually exclusive proposal to allot Channel 266A at Pauls Valley, OK, because it was not technically correct at the time it was filed. See 66 F.R. 44586, August 24, 2001. See also SUPPLEMENTARY INFORMATION.

DATES: Effective January 30, 2006.

FOR FURTHER INFORMATION CONTACT: Andrew J. Rhodes, Media Bureau, (202) 418-2180.

SUPPLEMENTARY INFORMATION: This is a synopsis of the Commission's Report and Order, MB Docket 01-180, adopted December 14, 2005 and released December 16, 2005.

The full text of this decision is available for inspection and copying during normal business hours in the FCC's Reference Information Center at Portals II, CY-A257, 445 12th Street, SW., Washington, DC. The complete text of this decision may also be purchased from the Commission's duplicating contractor, Best Copy and Printing, Inc., 445 12th Street, SW., Room CY-B402, Washington, DC 20554, telephone 1-800-378-3160 or http://www.BCPIWEB.com. The Commission will send a copy of the Report and Order in this proceeding in a report to be sent to Congress and the Government Accountability Office pursuant to the Congressional Review Act, see 5 U.S.C. 801(a)(1)(A).

The reference coordinates for Channel 265A at Holdenville are 35-04-53 NL and 96-31-00 WL.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Channel 265A at Holdenville.

Federal Communications Commission.
John A. Karousos,
Assistant Chief, Audio Division, Media Bureau.

[FR Doc. 06-43 Filed 1-3-06; 8:45 am]

BILLING CODE 6712-01-P